SECURITIES AND EXCHANGE COMMISSION

Submissions for OMB Review; Comment Request

Upon written request, copies available from: Securities and Exchange Commission, Office of Filings and Information Services, Washington, DC 20549.

Extensions:

Form F-7, OMB Control No. 3235-0383, SEC File No. 270-331.

Form F-8, OMB Control No. 3235-0378, SEC File No. 270-332.

Notice is hereby given that pursuant to the Paperwork Reduction Act of 1995 (44 U.S.C. 3501 et seq.) the Securities and Exchange Commission (“Commission”) has submitted to the Office of Management and Budget these requests for extension of the previously approved collections of information discussed below.

Form F-7 (17 CFR 239.37) may be used to register under the Securities Act of 1933 (15 U.S.C. 77a et seq.) securities offered for cash upon exercise of rights that are granted to its existing shareholders of the registrant to purchase or subscribe such securities. The information collected is intended to ensure that the information required to be filed by the Commission permits verification of compliance with securities law requirements and assures the public availability of such information. The information provided is mandatory and all information is made available to the public upon request. Form F-7 takes approximately 4 hours per response to prepare and is filed by 5 respondents. We estimate that 25% of 4 hours per response (one hour) is prepared by the company for a total annual reporting burden of 5 hours (one hour per response × 5 responses).

Form F-8 (17 CFR 239.38) may be used to register under the Securities Act of 1933 (15 U.S.C. 77a et seq.) securities of certain Canadian issuers to be used in exchange offers or business combinations. The information collected is intended to ensure that the information required to be filed by the Commission permits verification of compliance with securities law requirements and assures the public availability of such information. The information provided is mandatory and all information is made available to the public upon request. Form F-8 takes approximately one hour per response to prepare and is filed by 10 respondents. We estimate that 25% of one hour per response (15 minutes) is prepared by the company for a total annual reporting burden of 3 hours (15 minutes/60 minutes per response × 10 responses = 2.5 hours rounded to 3 hours).

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to David_Rostker@omb.eop.gov; and (ii) R. Corey Booth, Director/Chief Information Officer, Securities and Exchange Commission, C/O Shirley Martinson, 6432 General Green Way, Alexandria, VA 22312; or send an e-mail to PRA_Mailbox@sec.gov. Comments must be submitted to OMB within 30 days of this notice.

November 20, 2006.
Nancy M. Morris,
Secretary.

[FR Doc. E6-20427 Filed 12-1-06; 8:45 am]

BILLING CODE 8011-01-P